DEPARTMENT OF HOMELAND SECURITY

Bureau of Customs and Border Protection

Notice of Revocation of Customs Broker License

AGENCY: Customs Service, DHS.

ACTION: General notice.

SUMMARY: Pursuant to section 641 of the Tariff Act of 1930 as amended (19 U.S.C. 1641) and the Customs Regulations (19 CFR 111.53) the following Customs broker license is revoked with prejudice.

Name | License | Port
Byung Wu Lee | 10535 | Los Angeles, California.

Dated: August 20, 2003.
Jayson P. Ahern,
Assistant Commissioner, Office of Field Operations.

[FR Doc. 03-22066 Filed 8-27-03; 8:45 am]

BILLING CODE 4820-02-P